DEPARTMENT OF COMMERCE

Bureau of Industry and Security

15 CFR Part 744

[Docket No. 200324-0087]

RIN 0694-ZA02

Request for Comments on Future Extensions of Temporary General License (TGL)

AGENCY: Bureau of Industry and Security, Commerce.

ACTION: Notification of inquiry; reopening comment period.

SUMMARY: The Bureau of Industry and Security (BIS) issued a notification of inquiry requesting comments on future extensions of a temporary general license under the Export Administration Regulations (EAR), published in the Federal Register on March 12, 2020 with the comment period starting on the date of display on the public inspection list on March 10, 2020 and closing on March 25, 2020. This notification reopens the comment period through April 22, 2020. Comments submitted anytime between March 10, 2020 and April 22, 2020 will be accepted and considered.

DATES: The comment period for the document published on March 12, 2020 (85 FR 14428), is reopened. Submit comments on or before April 22, 2020.

ADDRESSES: You may submit comments, identified by docket number BIS 2020-0001 or RIN 0694-ZA02, through the Federal eRulemaking Portal: http://www.regulations.gov. Follow the instructions for submitting comments.

All filers using the portal should use the name of the person or entity submitting comments as the name of their files, in accordance with the instructions below. Anyone submitting business confidential information should clearly identify the business confidential portion at the time of submission, file a statement justifying nondisclosure and referencing the specific legal authority claimed, and provide a non-confidential version of the submission.

For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” The “BC” and “P” should be followed by the name of the person or entity submitting the comments or rebuttal comments. All filers should name their files using the name of the person or entity submitting the comments. Any submissions with file names that do not begin with a “BC” or “P” will be assumed to be public and will be made publicly available through http://www.regulations.gov.

FOR FURTHER INFORMATION CONTACT: Director, Regulatory Policy Division, Bureau of Industry and Security, Department of Commerce, by phone at (202) 482-2440 or email at rpd2@bis.doc.gov.

SUPPLEMENTARY INFORMATION:

Background

This notification reopens the public comment period established in the Federal Register issue of March 12, 2020 (FR 2020-05194 Filed 3-10-20; 4:15 p.m.) that closed on March 25, 2020. In that notification, BIS requested comments from the public related to future extensions of the temporary general license (TGL) to Huawei Technologies and 114 of its non-US affiliates on the Entity List. BIS is seeking public comments on the impact on companies, organizations, individuals, and other impacted entities in five areas, each described in the March 12 notification. As published on May 22, 2019 (84 FR 23468), extended and amended through a final rule published on August 21, 2019 (84 FR 43487), and as currently extended through a final rule published on March 12, 2020 (85 FR 14416), Commerce has authorized the temporary general license (TGL) to Huawei Technologies and 114 of its non-US affiliates on the Entity List through May 15, 2020.

As was stated in the notification, BIS is requesting these comments to assist the U.S. Government in evaluating whether the temporary general license should continue to be extended, to evaluate whether any other changes may be warranted to the temporary general license, and to identify any alternative authorization or other regulatory provisions that may more effectively address what is being authorized under the temporary general license.

Instructions for the submission of comments, including comments that contain business confidential information, are found in the ADDRESSES section of this notification.

Dated: March 24, 2020.
Richard E. Ashooh,
Assistant Secretary for Export Administration.

[FR Doc. 2020-06545 Filed 3-25-20; 4:15 pm]

BILLING CODE 3510-33-P